DEPARTMENT OF ENERGY

Federal Energy Regulatory Commission

[Docket No. EL11-47-000]

North Carolina Electric Membership Corporation; Notice of Petition for Partial Waiver

Take notice that on June 30, 2011, pursuant to section 292.402 of the Federal Energy Regulatory Commission's (Commission) Public Utility Regulatory Policies Act of 1978 (PURPA) Regulations, 18 CFR 292.402, North Carolina Electric Membership Corporation (NCEMC), on behalf of itself and its twenty participating electric distribution cooperative member-owners (Participating Members) ¹ filed a petition for partial waiver of certain obligations imposed on NCEMC and Participating Members under sections 292-303(a) and 292.303(b) of the Commission's Regulations implementing section 210 of PURPA.

¹ NCEMC's twenty Participating Member-owners joining in this petition are: Albemarle Electric Membership Corp., Brunswick Electric Membership Corp., Cape Hatteras Electric Cooperative, Carteret-Craven Electric Cooperative, Central Electric Membership Corp., Edgecombe-Martin County Electric Membership Corp., Four County Electric Membership Corp., Halifax Electric Membership Corp., Jones-Onslow Electric Membership Corp., Lumbee River Electric Membership Corp., Pee Dee Electric Membership Corp., Pitt & Greene Electric Membership Corp., Randolph Electric Membership Corp., Roanoke Electric Cooperative, South River Electric Membership Corp., Surry-Yadkin Electric Membership Corp., Tideland Electric Membership Corp., Tri-County Electric Membership Corp., Union Power Cooperative, and Wake Electric Membership Corp.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 16, 2011.

Dated: July 19, 2011.
Nathaniel J. Davis, Sr.,
Deputy Secretary.

[FR Doc. 2011-18690 Filed 7-22-11; 8:45 am]

BILLING CODE 6717-01-P